ENVIRONMENTAL PROTECTION AGENCY

[EPA-HQ-OAR-2022-0085; FRL-10456-01-OMS]

Information Collection Request Submitted to OMB for Review and Approval; Comment Request; NESHAP for Oil and Natural Gas Production (Renewal)

AGENCY: Environmental Protection Agency (EPA).

ACTION: Notice.

SUMMARY: The Environmental Protection Agency (EPA) has submitted an information collection request (ICR), NESHAP for Oil and Natural Gas Production (EPA ICR Number 1788.13, OMB Control Number 2060-0417), to the Office of Management and Budget (OMB) for review and approval in accordance with the Paperwork Reduction Act. This is a proposed extension of the ICR, which is currently approved through January 31, 2023. Public comments were previously requested, via the Federal Register, on July 22, 2022 during a 60-day comment period. This notice allows for an additional 30 days for public comments. A fuller description of the ICR is given below, including its estimated burden and cost to the public. An agency may neither conduct nor sponsor, and a person is not required to respond to, a collection of information unless it displays a currently valid OMB control number.

DATES: Additional comments may be submitted on or before December 28, 2022.

ADDRESSES: Submit your comments, referencing Docket ID Number EPA-HQ-OAR-2022-0085, to EPA online using https://www.regulations.gov/ (our preferred method), or by email to docket@epa.gov, or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Muntasir Ali, Sector Policies and Program Division (D243-05), Office of Air Quality Planning and Standards, U.S. Environmental Protection Agency, Research Triangle Park, North Carolina 27711; telephone number: (919) 541-0833; email address: ali.muntasir@epa.gov.

SUPPLEMENTARY INFORMATION: Supporting documents, which explain in detail the information that the EPA will be collecting, are available in the public docket for this ICR. The docket can be viewed online at https://www.regulations.gov, or in person at the EPA Docket Center, WJC West Building, Room 3334, 1301 Constitution Ave. NW, Washington, DC. The telephone number for the Docket Center is 202-566-1744. For additional information about EPA's public docket, visit http://www.epa.gov/dockets.

Abstract: The National Emission Standards for Hazardous Air Pollutants (NESHAP) for Oil and Natural Gas Production (40 CFR part 63, subpart HH) were proposed on February 6, 1998, and promulgated on June 17, 1999, only for major sources. On July 8, 2005, a supplemental proposal was proposed for area sources, with the final rule effective date on January 3, 2007. The rule was subsequently amended on August 16, 2012, to include emission sources for which standards were not previously developed. These regulations apply to emission points located at both new and existing oil and natural gas production facilities that are both major and area sources. A major source of hazardous air pollutants (HAP) is one that has the potential to emit 10 tons or more of any single HAP or 25 tons or more of total HAP per year; an area source is one with the potential to emit less than these amounts. New facilities include those that commenced either construction or reconstruction after the date of proposal. This information is being collected to assure compliance with 40 CFR part 63, subpart HH.

Form Numbers: None.

Respondents/affected entities: Oil and natural gas production facilities.

Respondent's obligation to respond: Mandatory (40 CFR part 63, subpart HH).

Estimated number of respondents: 5,146 (total).

Frequency of response: Initially, semiannually.

Total estimated burden: 60,600 hours (per year). Burden is defined at 5 CFR 1320.3(b).

Total estimated cost: $8,390,000 (per year), which includes $1,110,000 in annualized capital/startup and/or operation & maintenance costs.

Changes in the estimates: There is an increase in burden from the most-recently approved ICR currently identified in the OMB Inventory of Approved Burdens due to an increase in the number of new or modified sources. This ICR updates the number of affected sources subject to these regulations based on an assumption that the industry continues to grow at a constant rate since the previous renewal. Because the industry growth rate is constant, the number of new sources each year is constant, and there is no change in the capital/startup costs from the most recently approved ICR. However, the number of existing sources has increased due to the industry growth rate, resulting in an increase to the operation & maintenance (O&M) costs.

Courtney Kerwin,
Director, Regulatory Support Division.

[FR Doc. 2022-25796 Filed 11-25-22; 8:45 am]

BILLING CODE 6560-50-P